THE NATIONAL FOUNDATION ON THE ARTS AND THE HUMANITIES

Meetings of Humanities Panel

AGENCY: The National Endowment for the Humanities, National Foundation on the Arts and the Humanities

ACTION: Cancellation of Panel Meeting.

Notice is hereby given of the cancellation of the following meeting of the Humanities Panel at the Old Post Office, 1100 Pennsylvania Avenue NW., Washington, DC 20506, which was published in the Federal Register on March 13, 2012, 77 FR 14836.

DATES: April 23, 2012.

Time: 9 a.m. to 5 p.m.

Room: 315.

Program: This meeting will review applications for The Summer Seminars and Institutes grant program, submitted to the Division of Education Programs, at the March 1, 2012 deadline.

Lisette Voyatzis,
Advisory Committee Management Officer.

[FR Doc. 2012-6985 Filed 3-22-12; 8:45 am]

BILLING CODE 7536-01-P